FEDERAL RESERVE SYSTEM

Agency Information Collection Activities: Announcement of Board Approval Under Delegated Authority and Submission to OMB

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Cindy Ayouch—Division of Research and Statistics, Board of Governors of the Federal Reserve System, Washington, DC 20551 (202-452-3829)

OMB Desk Officer—Mark Menchik—Office of Information and Regulatory Affairs, Office of Management and Budget, New Executive Office Building, Room 10235, Washington, DC 20503, or email to mmenchik@omb.eop.gov

Final Approval Under OMB Delegated Authority of the Extension for Three Years, With Revision, of the Following Reports

1. Report title: Application for Employment with the Board of Governors of the Federal Reserve System

Agency form number: FR 28

OMB control number: 7100-0181

Frequency: On occasion

Reporters: Employment applicants

Annual reporting hours: 2,500 hours

Estimated average hours per response: 1 hour

Number of respondents: 2,500

General description of report: This information collection is required to obtain a benefit (sections 10(4) and 11(1) of the Federal Reserve Act (12 U.S.C. Sec. 244 and 248(1)). The Board is required to treat the information collected on the Application as confidential pursuant to the requirements of the Privacy Act (5 U.S.C. Sec. 552a). Individual respondent data are regarded as confidential under the Freedom of Information Act (5 U.S.C. Sections. 552(b)(2) and (b)(6)).

Abstract: The Application collects information to determine the qualifications, suitability, and availability of applicants for employment with the Board. The Application asks about education, training, employment, and other information covering the period since the applicant left high school.

Current Actions: On October 15, 2004, the Federal Reserve issued for public comment proposed revisions to the Application for Employment with the Board of Governors of the Federal Reserve System (FR 28) (69 FR 61250). The comment period expired on December 14, 2004. The proposed revisions to the Application consisted of adding the applicant's email address and cell phone number and modifying the education and training section to inform applicants that educational claims must be from an accredited school. The Federal Reserve also proposed to modify the Applicant's Voluntary Self-Identification Form (FR 28s) to be consistent with the Office of Management and Budget's (OMBs) Statistical Policy Directive No. 15, (Race and Ethnic Standards for Federal Statistics and Administrative Reporting). The Federal Reserve Board also proposed to revise the Research Assistant Candidate Survey of Interests (FR 28i), by modifying the areas of interest, changing the rating scale format, adding a section on software packages used by the candidate, and adding a line for the candidate's name. The Federal Reserve did not receive any comments. Changes will be implemented as proposed.

2. Report title: Compensation and Salary Surveys

Agency form number: FR 29a, b, c

OMB control number: 7100-0290

Frequency: FR 29a, annually; FR 29b, on occasion; FR 29c, annually

Reporters: Employers considered competitors for Federal Reserve employees

Annual reporting hours: FR 29a, 150 hours; FR 29b, 50 hours

Estimated average hours per response: FR 29a, 6 hours; FR 29b, 1 hour

Number of respondents: 35

General description of report: This information collection is voluntary (sections 10(4) and 11(1) of the Federal Reserve Act (12 U.S.C. 244 and 248(1)) and is given confidential treatment (5 U.S.C 552 (b)(4) and (b)(6)).

Abstract: The surveys collect information on salaries, employee compensation policies, and other employee programs from employers that are considered competitors for Federal Reserve employees. The data from the surveys primarily are used to determine the appropriate salary structure and salary adjustments for Federal Reserve employees.

Current Actions: On October 15, 2004, the Federal Reserve issued for public comment proposed revisions to the Compensation and Salary Surveys (FR 29a, b, c) (69 FR 61250). The Federal Reserve proposed to discontinue the annual Compensation Trend Survey (FR 29c). The international consulting firm of Hay Management Consultants had conducted this survey, on behalf of the Federal Reserve, since 1991. However, since 2001, the Federal Reserve has relied on data published in other national compensation surveys. The Annual Salary Survey (FR 29a) and the ad hoc surveys related to salary and other employment issues (FR 29b), will not be revised. The Federal Reserve did not receive any comments. Changes will be implemented as proposed.

3. Report title: Studies of Board Publications

Agency form number: FR 1373a,b

OMB control number: 7100-0301

Frequency: FR 1373a, three times per year; FR 1373b, eight times per year

Reporters: FR 1373a, community-based educators, key stakeholders, and other educators who have previously requested consumer education materials from the Federal Reserve; FR 1373b, current subscribers of the publications being surveyed.

Annual reporting hours: FR 1373a, 368 hours; FR 1373b, 446 hours.

Estimated average hours per response: FR 1373a, 30 minutes (survey), 90 minutes (panel discussion); FR 1373b, 15 minutes.

Number of respondents: FR 1373a, 445; FR 1373b, 517.

General description of report: This information collection is voluntary. The FR 1373a study is authorized pursuant to the Federal Trade Commission Improvement Act (15 U.S.C. § 57(a)); the FR 1373 b study is authorized pursuant to 12 U.S.C. § 248(i). The specific information collected is not considered confidential.

Abstract: The FR 1373a study allows the Federal Reserve to: 1) conduct periodic reviews and evaluations of the consumer education materials, and 2) develop and evaluate consumer education materials under consideration for distribution. The FR 1373b study helps Federal Reserve evaluate other Board publications. In addition, the Federal Reserve uses the FR 1373b data to help determine if it should continue to issue certain publications and, if so, whether the public would like to see changes in the method of information delivery, frequency, content, format, or appearance.

Current Actions: On October 15, 2004, the Federal Reserve issued for public comment proposed revisions to the Studies of Board Publications (FR 1373a, b) (69 FR 61250). The Federal Reserve proposed to revise the FR 1373a by adding focus group or guided discussions once a year with three groups of fifteen respondents. Each discussion will take an estimated ninety minutes. The goal for such focused discussions will be to identify what issues consumers want addressed and how they would like to receive this information. The Federal Reserve will work with community groups or other appropriate stakeholders to recruit small groups of consumers to serve as voluntary respondents. The Federal Reserve did not receive any comments. Changes will be implemented as proposed.

Board of Governors of the Federal Reserve System, December 17, 2004.
Jennifer J. Johnson,
Secretary of the Board.

[FR Doc. 04-28041 Filed 12-22-04; 8:45 am]

BILLING CODE: 6210-01-S